NATIONAL TRANSPORTATION SAFETY BOARD

Sunshine Act Meeting

“FEDERAL REGISTER” CITATION OF PREVIOUS ANNOUNCEMENT: Vol. 65, No. 217/Wednesday, November 8, 2000.

PREVIOUSLY ANNOUNCED TIME AND DATE: 9:30 a.m., Tuesday, November 14, 2000.

CHANGE IN MEETING: A majority of the Board Members determined by recorded vote that the business of the Board required changing the Board Meeting time from Tuesday, November 14, 2000 at 9:30 am to Tuesday, November 14, 2000 at 10:00 am at this time and that no earlier announcement was possible.

FOR FURTHER INFORMATION CONTACT: Rhonda Underwood, (202) 314-6065.

Dated: November 8, 2000.
Rhonda Underwood,
Federal Register Liaison Officer.

[FR Doc. 00-29035 Filed 11-8-00; 11:51 am]

BILLING CODE 7533-01-M